LIBRARY OF CONGRESS

Copyright Office

[Docket No. 2001-7 CARP SD 2000]

Ascertainment of Controversy for the 2000 and 2001 Satellite Royalty Funds

AGENCY: Copyright Office, Library of Congress.

ACTION: Suspension of filing deadline and request for comments.

SUMMARY: The Copyright Office of the Library of Congress is suspending the current filing deadline for comments and Notices of Intent to Participate for distribution of the 2000 and 2001 satellite royalty funds and seeks comment on a request for a new filing deadline of January 15, 2002.

DATES: Comments are due no later than December 10, 2001.

ADDRESSES: If sent by mail, an original and five copies of written comments should be addressed to: Copyright Arbitration Royalty Panel (CARP), P.O. Box 70977, Southwest Station, Washington, DC 20024. If hand delivered, an original and five copies should be brought to: Office of the General Counsel, James Madison Memorial Building, Room 403, First and Independence Avenue, S.E., Washington, DC 20540.

FOR FURTHER INFORMATION CONTACT: David O. Carson, General Counsel, or William J. Roberts, Jr., Senior Attorney for Compulsory Licenses, Copyright Arbitration Royalty Panels, P.O. Box 70977, Southwest Station, Washington, DC 20024. Telephone (202) 707-8380. Telefax: (202) 252-3423.

SUPPLEMENTARY INFORMATION: Each year satellite carriers submit royalties to the Copyright Office for the retransmission of over-the-air broadcast signals to their subscribers. 17 U.S.C. 119. These royalties are, in turn, distributed in one of two ways to copyright owners whose works were included in a retransmission of an over-the-air broadcast signal and who timely filed a claim for royalties with the Copyright Office. The copyright owners may either negotiate the terms of a settlement as to the division of the royalty fees, or the Librarian of Congress may convene a Copyright Arbitration Royalty Panel (“CARP”) to determine the distribution of the royalty fees that remain in controversy. See 17 U.S.C. chapter 8.

On October 30, 2001, the Library of Congress published a Notice in the Federal Register requesting comments from interested parties as to the existence of controversies over the distribution of 2000 satellite royalty fees collected under 17 U.S.C. 119.66 FR 54789 (October 30, 2001). The Library requested that interested parties submit their comments, along with Notices of Intent to Participate in the 2000 distribution proceeding, by November 29, 2001. In addition, the Library sought comment on a petition for royalty distribution filed by the Public Broadcasting Service (“PBS”), seeking collection of 2000 and 2001 royalties submitted under 17 U.S.C. 119(b) for the PBS satellite feed.

On November 6, 2001, the Motion Picture Association of America, Inc. (“MPAA”) filed a motion seeking an extension of the November 29, 2001, deadline to January 15, 2002. MPAA's motion can be found at http://www.loc.gov/copyright/carp/mpaamotion.pdf. MPAA asserts that it cannot submit its Notice of Intent to Participate until the Copyright Office completes its examination of claims filed for the 2000 satellite funds. Once this examination is completed, MPAA will need time to secure representation agreements from its claimants before submitting its Notice of Intent to Participate. The extension of the filing period until January 15, 2002 will, in the opinion of MPAA, allow it sufficient time to prepare its Notice.

In order to consider MPAA's motion, it is necessary to suspend the current filing deadline of November 29, 2001. Consequently, interested parties need not file at this time their comments on the existence of controversies to the distribution of the 2000 satellite royalty funds, their comments on the PBS motion for distribution, or their Notices of Intent to Participate until further notice.

In the meantime, the Library seeks comment as to MPAA's motion and the advisability of extending the filing deadline until January 15, 2002, for comments on the existence of controversies and Notices of Intent to Participate.

Dated: November 19, 2001.
David O. Carson,
General Counsel.

[FR Doc. 01-29278 Filed 11-21-01; 8:45 am]

BILLING CODE 1410-33-P